DEPARTMENT OF THE INTERIOR

Fish and Wildlife Service

[FWS-R9-MB-2008-N00171]

Meeting Announcement: North American Wetlands Conservation Council

AGENCY: Fish and Wildlife Service, Interior.

ACTION: Notice of meeting.

SUMMARY: The North American Wetlands Conservation Council (Council) will meet to select North American Wetlands Conservation Act (NAWCA) grant proposals for recommendation to the Migratory Bird Conservation Commission (Commission). This meeting is open to the public, and interested persons may present oral or written statements.

DATES: Council Meeting: July 8, 2008, 1-3 p.m.

ADDRESSES: The meeting will be held at the Rodd Brudenell Facility, 86 Dewars Lane, P.O. Box 67, Georgetown Royalty, PE, Canada C0A 1G0. The meeting is coordinated by the Council Coordinator, U.S. Fish and Wildlife Service, 4401 N. Fairfax Drive, Mail Stop: MBSP 4501-4075, Arlington, VA. 22203.

FOR FURTHER INFORMATION CONTACT: Mike Johnson, Council Coordinator, (703) 358-1784 or dbhc@fws.gov.

SUPPLEMENTARY INFORMATION: In accordance with NAWCA (Pub. L. 101-233, 103 Stat. 1968, December 13, 1989, as amended), the State-private-Federal Council meets to consider wetland acquisition, restoration, enhancement, and management projects for recommendation to, and final funding approval by, the Commission. Proposal due dates, application instructions, and eligibility requirements are available on the NAWCA Web site at http://birdhabitat.fws.gov. Proposals require a minimum of 50 percent non-Federal matching funds. The Council will consider U.S. Standard grant proposals at the July meeting. The tentative date for the Commission meeting is September 10, 2008.

Dated: June 16, 2008.
Paul Schmidt,
Assistant Director—Migratory Birds.

[FR Doc. E8-14849 Filed 6-30-08; 8:45 am]

BILLING CODE 4310-55-P